DEPARTMENT OF COMMERCE

National Oceanic and Atmospheric Administration

Agency Information Collection Activities; Submission to the Office of Management and Budget (OMB) for Review and Approval; Comment Request; Alaska Mariculture Economic Benchmark Survey

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 22, 2024.

ADDRESSES: Interested persons are invited to submit written comments to Adrienne Thomas, NOAA PRA Officer, at NOAA.PRA@noaa.gov. Do not submit Confidential Business Information or otherwise sensitive or protected information.

FOR FURTHER INFORMATION CONTACT: Requests for additional information or specific questions related to collection activities should be directed to Russel A. Dame, Industry Economist, NOAA, 7600 Sand Point Way NE, Bldg. 4, Seattle, WA 98115-6349, (206) 526-4432, russel.a.dame@noaa.gov.

SUPPLEMENTARY INFORMATION:

I. Abstract

This is a request for a new collection of information. Alaska was recently named an Aquaculture Opportunity Area (AOA) under NOAA Fisheries to determine geographic areas that are environmentally, socially, and economically suitable to support commercial aquaculture operations. The purpose of this data collection is to gather economic data from current growers that hold an Aquatic Farming permit under the Alaska Department of Fish & Game to establish a benchmark economic report that presents economic measures (profitability, breakeven price, etc.) and operations (average stocking density, kelp line depth and separation, etc.) spatially.

The data collected from this survey will be used by NOAA economists to generate a benchmark report that states spatial economic information, internal reports on the spatial economic suitability of an Alaskan mariculture operation, and external publications on the financial and environmental risks. These reports will be published on NOAA's website and be publicly accessible for stakeholders, researchers, and other members of the public.

Stakeholders (current and prospective growers) are requesting economic information to help secure small business loans to establish new growing operations and expand current production and describe the economics of opening and operating a mariculture farm in Alaska. Additionally, the economic data provided from this collection will help determine the spatial economic suitability requested from the AOA project. NOAA will use the information provided in the survey to generate a bio economic model that can be simulated under various financial and environmental scenarios. Examples of financial and environmental scenarios include the impact to profitability from subsidies for reductions in seed costs, price floors, and reduced transportation costs from a new production facility and impact to growth and mortality rates from increasing surface water temperatures, dissolved oxygen (DO), and other water parameters and other environmental events such as harmful algae blooms (HAB) or severe storms.

II. Method of Collection

This survey will be distributed via mail. Many Alaskan mariculture growers live in remote areas with limited internet access. To ensure that the survey reaches the full population, NOAA will use the mailing address associated with their Aquatic Farming permit to deliver each paper survey.

III. Data

OMB Control Number: 0648-XXXX.

Form Number(s): None.

Type of Review: Regular submission. This is a new information collection.

Affected Public: Business or other for-profit organizations.

Estimated Number of Respondents: 80.

Estimated Time Per Response: 45 minutes

Estimated Total Annual Burden Hours: 60.

Estimated Total Annual Cost to Public: $0.

Respondent's Obligation: Mandatory.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-03513 Filed 2-20-24; 8:45 am]

BILLING CODE 3510-22-P